DEPARTMENT OF JUSTICE

Civil Division; Agency Information Collection Activities: Proposed Collection; Comments Requested

ACTION: 60-Day emergency notice of information collection under review: Annuity Broker Qualification Declaration Form.

The Department of Justice, Civil Division has submitted the following information collection request to the Office of Management and Budget (OMB) for review and clearance in accordance with emergency review procedures of the Paperwork Reduction Act of 1995. OMB approval has been requested by March 14, 2003. The proposed information collection is published to obtain comments from the public and affected agencies. If granted, the emergency approval is only valid for 180 days. Comments should be directed to OMB, Office of Information and Regulation Affairs, Attention: Department of Justice Desk Officer (202) 395-6466, Washington, DC 20503.

During the first 60 days of this same review period, a regular review of this information collection is also being undertaken. All comments and suggestions, or questions regarding additional information, to include obtaining a copy of the proposed information collection instrument with instructions, should be directed to Kenneth L. Zwick, Director, Office of Management Programs, Civil Division, U.S. Department of Justice, Main Building, Room 3140, 950 Pennsylvania Avenue NW., Washington, DC 20530, or facsimile (202) 514-8071.

Request written comments and suggestions from the public and affected agencies concerning the proposed collection of information. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of information collection: This is a new collection.

(2) The title of the form/collection: Annuity Broker Qualification Declaration Form.

(3) The agency form number, if any, and the applicable component of the department sponsoring the collection: Form Number: none. Civil Division, Torts Branch, Department of Justice.

(4) Affected public who will be asked or required to respond, as well as a brief abstract: Primary: Annuity Brokers. Other: None. The information collection requirement contained in this rule will be used to determine whether a broker meets the minimum qualifications to be listed as an annuity broker pursuant to section 11015(b) of Public Law 107-273.

(5) An estimate of the total number of respondents and the amount of time estimated for an average respondent to respond/reply: It is estimated that 400 respondents will complete the application in approximately 1 hour per response.

(6) An estimate of the total public burden (in hours) associated with the collection: The estimated total public burden associated with this application is 400 hours.

If additional information is required contact: Robert B. Briggs, Department Clearance Officer, Information Management and Security Staff, Justice Management Division, United States Department of Justice, 601 D Street NW., Patrick Henry Building, Suite 1600, NW., Washington, DC 20530.

Dated: March 10, 2003.
Robert B. Briggs,
Department Clearance Officer, Department of Justice.

[FR Doc. 03-6080 Filed 3-12-03; 8:45 am]

BILLING CODE 4410-12-M